DEPARTMENT OF COMMERCE

National Oceanic and Atmospheric Administration

[RTID 0648-XC900]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting of the Ecosystem and Ocean Planning (EOP) Advisory Panel (AP). See SUPPLEMENTARY INFORMATION for agenda details.

DATES: The meeting will be held on Thursday, April 27, 2023, from 1 p.m. through 4 p.m.

ADDRESSES: The meeting will take place over webinar with a telephone-only connection option. Details on how to connect to the meeting will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The AP will be meeting jointly with the EOP Committee to continue the comprehensive review of the Council's Ecosystem Approach to the Fisheries Management (EAFM) risk assessment. The Committee and AP will review and provide feedback on existing and potentially new risk elements and their definitions for inclusion in an updated risk assessment. Risk elements identify an aspect that may threaten achieving the biological, economic, or social objectives that the Council desires from a fishery. The risk assessment review will continue throughout the year with revised draft risk assessment update for Council review and approval anticipated in the fall of 2023.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: April 6, 2023.
Rey Israel Marquez,
Acting Deputy Director, Office of Sustainable Fisheries, National Marine Fisheries Service.

[FR Doc. 2023-07564 Filed 4-10-23; 8:45 am]

BILLING CODE 3510-22-P